ENVIRONMENTAL PROTECTION AGENCY

40 CFR Part 52

[EPA-R06-OAR-2014-0642; FRL-9943-42-Region 6]

Approval and Promulgation of Air Quality Implementation Plans; New Mexico; and Albuquerque/Bernalillo County; Revisions To Establish Small Business Stationary Source Technical and Environmental Compliance Assistance Programs

AGENCY: Environmental Protection Agency (EPA).

ACTION: Proposed rule.

SUMMARY: The Environmental Protection Agency (EPA) is proposing to approve revisions to the New Mexico State Implementation Plan (SIP) for both the State and Albuquerque/Bernalillo County. These proposed revisions establish Small Business Stationary Assistance Source Technical and Environmental Compliance Assistance Programs. The EPA is proposing to approve these revisions pursuant to sections 110 and 507(a) of the Clean Air Act (CAA).

DATES: Written comments should be received on or before April 11, 2016.

ADDRESSES: Comments may be submitted by following the detailed instructions in the ADDRESSES section of the direct final rule located in the rules section of this Federal Register.

FOR FURTHER INFORMATION CONTACT: Mr. John Walser, (214) 665-7128, walser.john@epa.gov.

SUPPLEMENTARY INFORMATION: In the Rules and Regulations section of this Federal Register, the EPA is approving the State's SIP submittal as a direct rule without prior proposal because the Agency views this as a noncontroversial submittal and anticipates no adverse comments. A detailed rationale for the approval is set forth in the direct final rule. If no relevant adverse comments are received in response to this action, no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the Rules and Regulations section of this Federal Register.

Dated: February 24, 2016.
Ron Curry,
Regional Administrator, Region 6.

[FR Doc. 2016-05161 Filed 3-9-16; 8:45 am]

BILLING CODE 6560-50-P